NATIONAL SCIENCE FOUNDATION

Sunshine Act Meetings

The National Science Board (NSB) hereby gives notice of the scheduling of meetings for the transaction of NSB business as follows:

TIME AND DATE: Tuesday, February 23, 2021, from 11:00 a.m. to 6:45 p.m., and Wednesday, February 24, 2021, from 11:00 a.m. to 6:40 p.m. EST.

PLACE: These meetings will be held by videoconference. There will be no in-person meetings. The public may observe the public meetings, which will be streamed to the NSF You Tube channel. For meetings on Tuesday, February 23, go to: https://youtu.be/6JjWhwMhIKM. For meetings on Wednesday, February 24, go to: https://youtu.be/tmiQwe7o_Y0.

STATUS: Parts of these meetings will be open to the public. The rest of the meetings will be closed to the public. See full description below.

MATTERS TO BE CONSIDERED:

Tuesday, February 23, 2021

Plenary Board Meeting

Open Session: 11:00 a.m.-1:05 p.m.

• NSB Chair's Remarks

• New Member Swearing-in

Matthew Malkan

Scott Stanley

• NSF Director's Remarks

• NSB Chair Activity Summary

• Racial Equity Task Force and NSF Harassment Policy Update

• Vision 2030 Implementation Working Group Update

Committee on Oversight (CO)

Open Session: 1:15 p.m.-2:25 p.m.

• Committee Chair's Opening Remarks

• Approval of Committee Meeting Minutes

• Broader Impacts—Update on Activities

Discussion and action on statement and resolution re: Reviewer Training

Discussion and action on statement and resolution re: Broader Impacts Expert on Committees of Visitors

• Inspector General's Update

• Chief Financial Officer's Update

Committee on National Science and Engineering Policy (SEP)

Open Session: 2:35 p.m.-3:25 p.m.

• Committee Chair's Opening Remarks

• Approval of Prior Minutes

• Update on Indicators 2022

• Indicators 2020 Impact Report

• Update and Discussion of SEP Policy Products

Committee on Awards and Facilities (A&F)

Closed Session: 4:10 p.m.-6:00 p.m.

• Committee Chair's Opening Remarks

• Approval of Prior Minutes

• Context Item: National Ecological Observatory Network (NEON)

• Action Item: Mid-scale Research Infrastructure Track-2

• Action Item: Authorization of Management Reserve for Daniel D. Inouye Solar Telescope

• Context Item: Gemini Spending Cap Increase

• Arecibo Observatory Update

Committee on Strategy (CS)

Closed Session: 6:10 p.m.-6:45 p.m.

• Committee Chair's Remarks

• Approval of Prior Minutes

• Update on FY 2022 Budget Request Development

Wednesday, February 24, 2021

Plenary Board Meeting

Open Session: 11:00 a.m.-11:45 a.m.

• Panel Discussion: Roadblocks to STEM Graduate Student Retention

Committee on Strategy (CS)

Open Session: 11:45 a.m.-2:15 p.m.

• Committee Chair's Remarks

• Approval of Prior Minutes

• FY 2021 Budget Update

• Presentation and discussion: Strengthening Foundational Research

• Presentation and discussion: NSF Translation and Innovation Activities

• Presentation and discussion: NSF's Missing Millions Efforts

• NSF Strategic Plan 2022-2026

Committee on Awards and Facilities (A&F)

Open Session: 3:25 p.m.-3:45 p.m.

• Committee Chair's Opening Remarks

• Approval of Prior Minutes

• Rolling Calendar Year 2020-2021 Schedule of Planned Action and Context Items

• COVID-19 Impacts on U.S. Antarctic Program

Committee on External Engagement (EE)

Open Session: 3:45 p.m.-4:05 p.m.

• Committee Chair's Opening Remarks

• Approval of Prior Minutes

• Update on Engagement Initiatives

• UT-Knoxville Vision Listening Session

Plenary Board

Closed Session: 4:15 p.m.-5:10 p.m.

• NSB Chair's Opening Remarks

• Approval of Prior Minutes

• Director's Remarks

• NSF COVID-19 Recovery Update

• Closed Committee Reports

• Vote: Mid-scale Research Infrastructure-2 Awards

• Vote: DKIST Management Reserve

Plenary Board

Executive Closed Session: 5:10 p.m.-6:05 p.m.

• NSB Chair's Opening Remarks

• Approval of Prior Minutes

• NSF Director's Discussion

○ Personnel updates

• Future Directions in Translation, Innovation and Partnerships

• Ad Hoc Nominations Committee

• Election of Replacement Executive Committee Member

Plenary Board

Open Session: 6:15 p.m.-6:40 p.m.

• NSB Chair's Opening Remarks

• Approval of Prior Minutes

• NSF Director's Remarks

Senior Staff Updates

Office of Legislative and Public Affairs Update

• Open Committee Reports

• Votes:

Statement and Resolution re: Reviewer Training

Statement and Resolution re: Broader Impacts Expert on Committees of Visitors

Meeting Adjourns: 6:40 p.m.

MEETINGS THAT ARE OPEN TO THE PUBLIC:

Tuesday, February 23, 2021

11:00 a.m.-1:05 p.m. Plenary NSB

1:15 p.m.-2:25 p.m. CO

2:35 p.m.-3:25 p.m. SEP

Wednesday, February 24, 2021

11:00 a.m.-11:45 a.m. Plenary NSB

11:45 a.m.-2:15 p.m. CS

3:25 p.m.-3:45 p.m. A&F

3:45 p.m.-4:05 p.m. EE

6:15 p.m.-6:40 p.m. Plenary

MEETINGS THAT ARE CLOSED TO THE PUBLIC:

Tuesday, February 23, 2021

4:10 p.m.-6:00 p.m. A&F

6:10 p.m.-6:45 p.m. CS

Wednesday, February 24, 2021

4:15 p.m.-5:10 p.m. Plenary

5:10 p.m.-6:05 p.m. Plenary Executive

CONTACT PERSONS FOR MORE INFORMATION: The NSB Office contact is Chris Blair, cblair@nsf.gov, 703-292-7000. The NSB Public Affairs contact is Nadine Lymn, nlymn@nsf.gov, 703-292-2490. The following persons will be available to provide technical support in accessing the YouTube video: Angel Ntumy (antumy@associates.nsf.gov); Phillip Moulden (pmoulden@associates.nsf.gov).

SUPPLEMENTAL INFORMATION: All open sessions of the meeting will be webcast live. The Zoom feed will be broadcast on the NSB YouTube channel at: Please feel free to share this link with your colleagues:

Tuesday, February 23— https://youtu.be/6JjWhwMhIKM

Wednesday, February 24— https://youtu.be/tmiQwe7o_Y0

Please refer to the NSB website for additional information. You will find any updated meeting information and schedule updates (time, place, subject matter, or status of meeting) at https://www.nsf.gov/nsb/meetings/notices.jsp#sunshine.

Members of the public are advised that the NSB provides some flexibility around meeting times. A meeting may be allowed to run over by as much as 15 minutes if the Chair decides the extra time is warranted. The next meeting will start no later than 15 minutes after the noticed start time. If a meeting ends early, the next meeting may start up to 15 minutes earlier than the noticed start time. At no point will NSB or committee meetings vary from noticed times by more than 15 minutes. Open meetings can also be watched in their entirety later through the YouTube link.

Chris Blair,
Executive Assistant to the National Science Board Office.

[FR Doc. 2021-03463 Filed 2-17-21; 11:15 am]

BILLING CODE 7555-01-P